DEPARTMENT OF THE INTERIOR

Fish and Wildlife Service

[FWS-R8-ES-2010-N190; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before October 1, 2010.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-15544A

Applicant: Christine L. Beck, San Diego, California.

The applicant requests a permit to take (harass by survey, nest monitor and band) the California least tern (Sterna antillarum browni) and least Bell's vireo (Vireo belliipusillus) in conjunction with surveys and population monitoring throughout the range of the species in San Diego and Orange Counties, California, for the purpose of enhancing their survival.

Permit No. TE-797267

Applicant: H.T. Harvey and Associates, Los Gatos, California.

The applicant requests an amendment to an existing permit (December 16, 2009, 74 FR 66668) to take (survey, capture, handle and release) the tidewater goby (Eucyclogobius newberryi) in conjunction with surveys and population monitoring throughout the range of the species in Humboldt County, California, for the purpose of enhancing its survival.

Permit No. TE-15548A

Applicant: Karen T. Mabb, Camp Pendleton, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with surveys and habitat enhancement activities throughout the range of each species in California, and to remove/reduce to possession Erynigium aristulatum var. parishii (San Diego Button-celery) from Federal lands in conjunction with surveys and habitat enhancement activities on Camp Pendleton Marine Corps Base, California, for the purpose of enhancing their survival.

Permit No. TE-210235

Applicant: Matthew W. McDonald, Idyllwild, California.

The applicant requests an amendment to an existing permit (May 1, 2009, 74 FR 20337) to take (survey by pursuit) the Quino checkerspot butterfly (Euphydryas editha quino) in conjunction with surveys throughout the range of the species in California for the purpose of enhancing its survival.

Permit No. TE-17841A

Applicant: Tetra Tech Incorporated, Santa Barbara, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with survey activities throughout the range of each species in California for the purpose of enhancing their survival.

Permit No. TE-003269

Applicant: Robert A. James, San Diego, California.

The applicant requests an amendment to an existing permit (December 16, 1999, 64 FR 70274) to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with survey activities throughout the range of each species in California for the purpose of enhancing their survival.

Permit No. TE-19226A

Applicant: Jillian S. Bates, Oceanside, California.

The applicant requests a permit to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with survey activities throughout the range of each species in California for the purpose of enhancing their survival.

Permit No. TE-142435

Applicant: Debra M. Shier, Topanga, California.

The applicant requests an amendment to an existing permit (December 14, 2007, 72 FR 71145) to take (inject hormones, collect ectoparasites, transport, and hold in captivity) the Stephen's kangaroo rat (Dipodomys stephensi) in conjunction with scientific research throughout the range of the species in California for the purpose of enhancing its survival.

Permit No. TE-172629

Applicant: Kristen L. Sellheim, Davis, California.

The applicant requests an amendment to an existing permit (January 31, 2008, 73 FR 5868) to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with survey activities throughout the range of each species in California for the purpose of enhancing their survival.

We invite public review and comment on each of these recovery permit applications. Comments and materials we receive will be available for public inspection, by appointment, during normal business hours at the address listed in the ADDRESSES section of this notice.

Michael Long,
Acting Regional Director, Region 8, Sacramento, California.

[FR Doc. 2010-21879 Filed 8-31-10; 8:45 am]

BILLING CODE 4310-55-P